DEPARTMENT OF HOUSING AND URBAN DEVELOPMENT

[Docket No. FR-7052-N-01]

60-Day Notice of Proposed Information Collection: Neighborhood Stabilization Program 2; OMB Control No.: 2506-0185

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow 60 days of public comment.

DATES: Comments Due Date: April 11, 2022.

ADDRESSES: Interested persons are invited to submit comments regarding this proposal. Comments should refer to the proposal by name and/or OMB Control Number and should be sent to: Anna Guido, Reports Management Officer, QDAM, Department of Housing and Urban Development, 451 7th Street SW, Room 4176, Washington, DC 20410-5000; telephone (202) 402-5535 (this is not a toll-free number) or email at Anna.P.Gudio@hud.gov for a copy of the proposed forms or other available information. Persons with hearing or speech impairments may access this number through TTY by calling the toll-free Federal Relay Service at (800) 877-8339.

FOR FURTHER INFORMATION CONTACT: C. Duncan Yetman, Jr., Deputy Director, Entitlement Communities Division, Office of Block Grant Assistance, Department of Housing and Urban Development, 451 7th Street SW, Room 7282, Washington, DC 20410; by email at c.duncan.yetman@hud.gov or telephone at (202) 402-7178. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Neighborhood Stabilization Program 2 (NSP2).

OMB Approval Number: 2506-0185.

Type of Request: Revision to, and Extension of, currently approved collection.

Form Number: N/A.

This information describes the reporting and recordkeeping requirements of the Neighborhood Stabilization Program 2 (NSP2). The data required includes program level, project level and beneficiary level information collected and reported on by NSP2 grantees. The data identifies who benefits from the NSP2 program and how statutory requirement are satisfied. The respondents are State, local government, non-profit and consortium applicants.

Respondents: NSP2 grantees are units of state and local governments, non-profits and consortium members.

Description of information collection | Number of respondents | Number of responses | Total number of responses | Hours per response | Total hours | Cost per response | Total cost
Neighborhood Stabilization Program (Year 1)
Online Quarterly Reporting via DRGR | 42.00 | 4.00 | 168.00 | 4.00 | 672.00 | 38.92 | $27,946.24
DRGR voucher submissions | 42.00 | 38.00 | 1,596.00 | 0.18 | 287.28 | 38.92 | 11,180.93
Annual Reporting via DRGR | 14.00 | 1.00 | 14.00 | 3.00 | 42.00 | 38.92 | 1,634.64
Annual Income Certification Reporting | 14.00 | 1.00 | 14.00 | 3.00 | 42.00 | 38.92 | 1,634,64
Total Paperwork Burden | 112.00 | 44 |  |  | 1,043.28 | 38.92 | 40,761.81
(Year 2)
Online Quarterly Reporting via DRGR | 32.00 | 4.00 | 128.00 | 4.00 | 512.00 | 38.92 | 19,927.04
Quarterly Voucher Submissions | 32.00 | 38.00 | 1216.00 | 0.18 | 218.88 | 38.92 | 8,520.36
Annual Reporting via DRGR | 24.00 | 1.00 | 24.00 | 3.00 | 72.00 | 38.92 | 2,802.24
Annual Income Certification Reporting | 24.00 | 1.00 | 24.00 | 3.00 | 72.00 | 38.92 | 2,802.24
Total Paperwork Burden | 112.00 |  |  |  | 874.88 | 38.92 | 34,051.88
(Year 3)
Online Quarterly Reporting via DRGR | 22.00 | 4.00 | 88.00 | 4.00 | 352.00 | 38.92 | 13,699.84
Annual Reporting via DRGR | 34.00 | 1.00 | 34.00 | 4.00 | 136.00 | 38.92 | 5,293.12
Quarterly Voucher Submissions | 22.00 | 4.00 | 88.00 | 0.20 | 17.60 | 38.92 | 684.99
Annual Income Certification Reporting | 34.00 | 1.00 | 34.00 | 3.00 | 102.00 | 38.92 | 3,969.84
Total Paperwork Burden | 112.00 |  |  |  | 607.60 | 38.92 | 23,647.79

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

James Arthur Jemison II,
Principal Deputy Assistant Secretary for Community Planning and Development.

[FR Doc. 2022-02596 Filed 2-7-22; 8:45 am]

BILLING CODE 4210-67-P